FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 4, 2012.

A. Federal Reserve Bank of Richmond (Adam M. Drimer, Assistant Vice President) 701 East Byrd Street, Richmond, Virginia 23261-4528:

1. Thomas F. Dungan, III, Teri Dungan, and Thomas F. Dungan, Jr., all of Fairfax, Virginia; together with Andover Investments, LLC, Vienna, Virginia, as a group acting in concert, to acquire voting shares of Virginia Heritage Bank, Vienna, Virginia.

2. Edgar L. Woods, Bluffton, South Carolina, individually and as part of a group acting in concert with Edgar Woods, Woods Holdings Inc., RPM Palmetto Grain Brokerage LLC Profit Sharing Plan DTD 12/01/01 FBO Edgar L. Woods, Milton Woods Jr. and Susan H Woods, both of Ridgeland, South Carolina, and J. Eric Woods, Bluffton, South Carolina, as a group acting in concert; to individually acquire voting shares of Atlantic Bancshares, Inc., and thereby indirectly acquire voting shares of Atlantic Community Bank, both in Bluffton, South Carolina.

B. Federal Reserve Bank of Chicago (Colette A. Fried, Assistant Vice President) 230 South LaSalle Street, Chicago, Illinois 60690-1414:

1. Roger D. Underwood, individually and acting in concert with Michael L. Underwood, both of Guthrie Center, Iowa; to acquire voting shares of Guthrie County Bancshares, Inc., Guthrie Center, Iowa and thereby indirectly acquire voting shares of Guthrie County State Bank, Panora, Iowa.

Board of Governors of the Federal Reserve System, November 14, 2012.
Michael J. Lewandowski,
Assistant Secretary of the Board.

[FR Doc. 2012-28073 Filed 11-16-12; 8:45 am]

BILLING CODE 6210-01-P